DEPARTMENT OF JUSTICE

Antitrust Division

Notice Pursuant to the National Cooperative Research and Production Act of 1993—ENrG/Corning Fuel Cell Research

Notice is hereby given that, on October 8, 2004, pursuant to section 6(a) of the National Cooperative Research and Production Act of 1993, 15 U.S.C. 4301 et seq. (“the Act”), ENrG/Corning Fuel Cell Research (“ENrG”) has filed written notifications simultaneously with the Attorney General and the Federal Trade Commission disclosing (1) the identifies of the parties to the venture and (2) the nature and objectives of the venture. The notifications were filed for the purpose of invoking the Act's provisions limiting the recovery of antitrust plaintiffs to actual damages under specified circumstances.

Pursuant to section 6(b) of the Act, the identities of the parties to the venture are: Corning Incorporated, Corning, NY; and ENrG Incorporated, Buffalo, NY. The general areas of ENrG's planned activities are to develop and demonstrate scalable thin, large area planar solid oxide fuel cell (SOFC) and stack technology for enterprise-level primary and cogeneration distributed power that can cycle repeatedly and be more easily fabricated into 200kW power units.

Additional information concerning the venture can be obtained by contacting Joan Kane at Corning Incorporated, One Science Center Drive, Corning, NY 18431.

Dorothy B. Fountain,
Deputy Director of Operations, Antitrust Division.

[FR Doc. 04-25069 Filed 11-9-04; 8:45 am]

BILLING CODE 4410-11-M